DEPARTMENT OF ENERGY

Federal Energy Regulatory Commission

Combined Notice of Filings #1

Take notice that the Commission received the following electric rate filings:

Docket Numbers: ER15-762-003; ER15-760-003.

Applicants: Sierra Solar Greenworks LLC, Western Antelope Blue Sky Ranch A LLC.

Description: Notice of Non-Material Change in Status of Sierra Solar Greenworks LLC, et. al.

Filed Date: 11/18/15.

Accession Number: 20151118-5102.

Comments Due: 5 p.m. ET 12/9/15.

Docket Numbers: ER15-1579-002.

Applicants: 67RK 8me LLC.

Description: Compliance filing: 67RK 8me LLC MBR Tariff to be effective 6/1/2015.

Filed Date: 11/18/15.

Accession Number: 20151118-5076.

Comments Due: 5 p.m. ET 12/9/15.

Docket Numbers: ER15-1582-003.

Applicants: 65HK 8me LLC.

Description: Compliance filing: 65HK 8me LLC MBR Tariff to be effective 6/1/2015.

Filed Date: 11/18/15.

Accession Number: 20151118-5077.

Comments Due: 5 p.m. ET 12/9/15.

Docket Numbers: ER15-1896-002.

Applicants: Eden Solar LLC.

Description: Compliance filing: Eden Solar LLC MBR Tariff to be effective 8/1/2015.

Filed Date: 11/18/15.

Accession Number: 20151118-5078.

Comments Due: 5 p.m. ET 12/9/15.

Docket Numbers: ER15-2613-001.

Applicants: PJM Interconnection, L.L.C.

Description: Tariff Amendment: PJM Response to Deficiency Letter dated 11/2/15 in Docket No. ER15-2613-000 to be effective 9/30/2015.

Filed Date: 11/17/15.

Accession Number: 20151117-5146.

Comments Due: 5 p.m. ET 12/8/15.

Docket Numbers: ER15-2616-001.

Applicants: Midcontinent Independent System Operator, Inc.

Description: Tariff Amendment: 2015-11-17 MISO-PJM JOA M2M FFE Deficiency Response to be effective 9/30/2015.

Filed Date: 11/17/15.

Accession Number: 20151117-5152.

Comments Due: 5 p.m. ET 12/8/15.

Docket Numbers: ER16-289-001.

Applicants: Pacific Gas and Electric Company.

Description: Tariff Amendment: Errata to COTP CIRS Appendix F Filing to be effective 1/6/2016.

Filed Date: 11/18/15.

Accession Number: 20151118-5004.

Comments Due: 5 p.m. ET 12/9/15.

Docket Numbers: ER16-343-000.

Applicants: RE Astoria 2 LLC.

Description: Baseline eTariff Filing: Application for MBR to be effective 1/19/2016.

Filed Date: 11/18/15.

Accession Number: 20151118-5055.

Comments Due: 5 p.m. ET 12/9/15.

Docket Numbers: ER16-344-000.

Applicants: Midcontinent Independent System Operator, Inc.

Description: § 205(d) Rate Filing: 2015-11-18_Attachment J Revisions to be effective 1/17/2016.

Filed Date: 11/18/15.

Accession Number: 20151118-5085.

Comments Due: 5 p.m. ET 12/9/15.

Docket Numbers: ER16-345-000.

Applicants: Southwest Power Pool, Inc.

Description: § 205(d) Rate Filing: 2050 OMPA PTP Notice of Cancellation to be effective 9/1/2015.

Filed Date: 11/18/15.

Accession Number: 20151118-5118.

Comments Due: 5 p.m. ET 12/9/15.

Docket Numbers: ER16-346-000.

Applicants: New York Independent System Operator, Inc.

Description: § 205(d) Rate Filing: Market participant resubmission of risk management policies to be effective 1/17/2016.

Filed Date: 11/18/15.

Accession Number: 20151118-5120.

Comments Due: 5 p.m. ET 12/9/15.

Docket Numbers: ER16-347-000.

Applicants: Public Service Company of Colorado.

Description: § 205(d) Rate Filing: 2015-11-18_PSCo-TSGT-Ft Lupton E&P-420-0.0.0-Filing to be effective 11/19/2015.

Filed Date: 11/18/15.

Accession Number: 20151118-5139.

Comments Due: 5 p.m. ET 12/9/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 18, 2015.
Nathaniel J. Davis, Sr.,
Deputy Secretary.

[FR Doc. 2015-30388 Filed 11-30-15; 8:45 am]

BILLING CODE 6717-01-P